DEPARTMENT OF HEALTH AND HUMAN SERVICES

National Institutes of Health

Submission for OMB Review; Comment Request; a Prospective Study of Diet and Cancer in Members of the American Association of Retired Persons (AARP)

SUMMARY: Under the provisions of Section 3507(a)(1)(D) of the Paperwork Reduction Act of 1995, the National Cancer Institute (NCI), the National Institutes of Health (NIH) has submitted to the Office of Management and Budget (OMB) a request to review and approve the information collection listed below. This proposed information collection was previously published in the Federal Register on April 13, 2001, page 19181 and allowed 60 days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection

Title: A Prospective Study of Diet and Cancer in Members of the American Association of Retired Persons (AARP). Type of Information Collection Request: Reinstatement with change, OMB No. 0925-0423, which expired on 09/30/98. Need and Use of Information Collection: This study is to examine prospectively the relation between diet and major cancers (especially those of the breast, large bowel, and prostate) in population of early- to late-middle aged men and women in the United States. In order to minimize two problems that historically have plagued observational epidemiologic studies of diet and cancer—dietary measurement error and dietary homogeneity—this study is large and oversampled screenees within extreme categories of dietary intake. Understanding the relationship between diet and cancers of the breast, large bowel, and prostate has critical implications for the American people. This uniquely designed study has a capacity greater than that of any previous study for demonstrating these important connections between dietary factors and major cancers. Frequency of Response: One-time study. Affected Public: Individuals or households and business or other for-profit. Type of Respondents: Male and Female AARP members aged 50-69 years. The total annual reporting burden is as follows: Estimated Number of Respondents: 150,166; Estimated Number of Responses per Respondent: 1; Average Burden Hours per Response: 0.25; and Estimated Total Annual Burden Hours Requested: 37,542. There are no Capital Costs, Operating Costs, and/or Maintenance Costs to report.

Request for Comments

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB

Written comments and or suggestions regarding the item(s) contained in the notice, especially regarding the estimated public burden and associated response time, should be directed to the Office of Management and Budget, Office of Regulatory Affairs, New Executive Office Building, Room 10235, Washington, DC 20530, Attention: Desk Officer for NIH. To request more information on the proposed project or to obtain a copy of the data collection plans and instruments, contact: Arthur Schatzkin, M.D., Dr.P.H., Nutritional Epidemiology Branch, Division of Cancer Epidemiology and Genetics, National Cancer Institute, Executive Plaza South, Suite 7040, Rockville, Maryland 28092, or call non-toll free (301) 594-2931, or E-mail your request, including your address to schatzka@mail.nih.gov

Comments Due Date

Comments regarding this information collection are best assured of having their full effect if received on or before September 24, 2001.

Dated: August 15, 2001.
Reesa Nichols,
NCI Project Clearance Liaison.

[FR Doc. 01-21264 Filed 8-22-01; 8:45 am]

BILLING CODE 4140-01-M